DEPARTMENT OF TRANSPORTATION

Federal Motor Carrier Safety Administration

49 CFR Part 393

[Docket No. FMCSA-2025-0123]

RIN 2126-AC97

Parts and Accessories Necessary for Safe Operation; Tire Load Markings

AGENCY: Federal Motor Carrier Safety Administration (FMCSA), Department of Transportation (DOT).

ACTION: Final rule.

SUMMARY: FMCSA amends the requirements for commercial motor vehicle (CMV) tires to clarify that the Federal Motor Carrier Safety Regulations (FMCSR) do not require tire load restriction markings on the sidewalls of the tires. This change eliminates confusion and clarifies the scope of FMCSA's authority regarding requirements for CMV tires.

DATES: Effective March 23, 2026.

Petitions for reconsideration of this final rule must be submitted to the FMCSA Administrator no later than March 23, 2026.

FOR FURTHER INFORMATION CONTACT: Mr. David Sutula, Chief, Vehicle and Roadside Operations Division, FMCSA, 1200 New Jersey Avenue SE, Washington, DC 20590 0001; (202) 366-2551; David.Sutula@dot.gov. If you have questions on viewing or submitting material to the docket, call Dockets Operations at (202) 366-9826.

SUPPLEMENTARY INFORMATION: FMCSA organizes this final rule as follows:

I. Availability of Rulemaking Documents

II. Abbreviations

III. Legal Basis

IV. Discussion of Proposed Rulemaking and Comments

V. International Impacts

VI. Section-by-Section Analysis

VII. Regulatory Analyses

A. E.O. 12866 (Regulatory Planning and Review) and DOT Regulatory Policies and Procedures

B. E.O. 14192 (Unleashing Prosperity Through Deregulation)

C. Congressional Review Act

D. Regulatory Flexibility Act

E. Assistance for Small Entities

F. Unfunded Mandates Reform Act of 1995

G. Paperwork Reduction Act

H. E.O. 13132 (Federalism)

I. Privacy

J. E.O. 13175 (Indian Tribal Governments)

K. National Environmental Policy Act of 1969

I. Availability of Rulemaking Documents

To view any documents mentioned as being available in the docket, go to https://www.regulations.gov/docket/FMCSA-2025-0123/document and choose the document to review. To view comments, click this final rule, then click “Browse Comments.” If you do not have access to the internet, you may view the docket online by visiting Dockets Operations at U.S. Department of Transportation, 1200 New Jersey Avenue SE, Washington, DC 20590-0001, between 9 a.m. and 5 p.m., Monday through Friday, except Federal holidays. To be sure someone is there to help you, please call (202) 366-9317 or (202) 366-9826 before visiting Dockets Operations.

II. Abbreviations

CFR Code of Federal Regulations

CMV Commercial motor vehicle

DOT Department of Transportation

FMCSA Federal Motor Carrier Safety Administration

FMCSR Federal Motor Carrier Safety Regulations

FMVSS Federal Motor Vehicle Safety Standard

FR Federal Register

NHTSA National Highway Traffic Safety Administration

NPRM Notice of proposed rulemaking

PIA Privacy Impact Analysis

PTA Privacy Threshold Assessment

U.S.C. United States Code

III. Legal Basis

Under 49 U.S.C. 31136(a), DOT is required to “prescribe minimum safety standards for commercial motor vehicles. At a minimum, the regulations shall ensure that—(1) commercial motor vehicles are maintained, equipped, loaded, and operated safely, (2) the responsibilities imposed on operators of commercial motor vehicles do not impair their ability to operate the vehicles safely; (3) the physical conditions of operators of commercial motor vehicles is adequate to enable them to operate the vehicles safely. . . ; (4) the operation of commercial motor vehicles does not have a deleterious effect on the physical condition of the operators; and (5) an operator of a commercial motor vehicle is not coerced by a motor carrier, shipper, receiver, or transportation intermediary to operate a commercial motor vehicle in violation of a regulation promulgated under this section, or chapter 51 or chapter 313 of this title.”

This final rule is based on the authority of 49 U.S.C. 31136(a)(1) to ensure that CMVs are equipped and operated safely. It does not implicate the driver-centered requirements of 49 U.S.C. 31136(a)(2)-(4). Because this final rule does not impose any requirement on motor carriers, there is no obvious risk of coercion related to this rule to which a driver might be subjected.

The Administrator of FMCSA is delegated authority under 49 CFR 1.87 to carry out the functions vested in the Secretary of Transportation by 49 U.S.C. chapters 311, 313, and 315 as they relate to CMV operators, programs, and safety.

For the reasons explained below, FMCSA believes that this clarification of 49 CFR 393.75(g) and (h) will not adversely affect the operational safety of CMVs.

IV. Discussion of Proposed Rulemaking and Comments

A. Proposed Rulemaking

On May 30, 2025, FMCSA published in the Federal Register (Docket No. FMCSA-2025-0123, 90 FR 22949) a notice of proposed rulemaking (NPRM) titled “Parts and Accessories Necessary for Safe Operation; Tire Load Markings.” The NPRM proposed to amend the FMCSR to revise the requirements for tires on CMVs to clarify that the FMCSR do not require tire load restriction markings on their sidewalls.

B. Comments and Responses

FMCSA solicited comments concerning the NPRM for 60 days ending July 29, 2025. By that date, four comments were received from the following parties: the American Trucking Associations (ATA), the Owner-Operator Independent Drivers Association (OOIDA), Greg Smith, and Thomas Bray.

ATA and OOIDA supported the NPRM. ATA agreed that the FMCSR should make clear that any manufacturing requirements are imposed by the National Highway Traffic Safety Administration (NHTSA) and should reference the appropriate Federal Motor Vehicle Safety Standard. OOIDA stated that this was an example of commonsense regulatory reform.

Greg Smith did not support the proposed rule, stating that removing the requirement to mark tires with manufacturers weight ratings would be a threat to roadway safety, would make enforcing overloaded tires nearly impossible, and would lead to drivers not knowing the weight capacity of their tires.

Thomas Bray also opposed the proposed rule. Bray stated that the existing language is already clear, whereas the proposed language would imply that tire markings are no longer required on existing tires, only new ones. As a result, drivers could operate in excess of the tire ratings if the weight rating is not known. Bray also stated that an operator could deface or remove the load limit/rating markings, to delay enforcement actions while inspectors search for the weight ratings. Bray acknowledged that the regulations do not state that the marking is required and provide instructions if the ratings are not present, however Bray also stated that the proposed change could provide some in the industry with what they will see as a way around the tire rating violation.

FMCSA does not believe that the concerns raised in the comments accurately reflect the change that was proposed in the NPRM. As stated in the NPRM, FMCSA is adding clarifying language to the FMCSR to explicitly state that NHTSA, not FMCSA, is the agency which imposes requirements on tire manufacturers to add maximum load rating markings to the sidewalls of tires. FMCSA has no authority to require manufacturers to add such markings and the change does not alter any current regulatory requirements. The Agency does not believe that this final rule will result in any change in the likelihood of motor carriers or drivers defacing the sidewalls of tires. If a motor carrier or driver desired to deface their tires in an attempt to interfere with inspections, it would result in the same outcome regardless of this rule. If the markings are not displayed on a tire for any reason, section 393.75(g) and (h) provide procedures for determining the load rating of a tire through publications listed in FMVSS No. 119 (49 CFR 571.119) to ensure that a vehicle is not being operated in excess of that limit. Motor carriers and drivers are required to be aware of the load ratings of the tires on their CMV regardless of whether those ratings are on the tire or in the publications listed in FMVSS No. 119. Defacing the tires in any way does not alter that requirement. Adding clarifying language will make the regulated public better aware of the requirements under FMCSA regulations, resulting in less confusion about the applicability of section 393.75.

VI. International Impacts

Motor carriers and drivers are subject to the laws and regulations of the countries where they operate, unless an international agreement states otherwise. Drivers and carriers should be aware of the regulatory differences between nations.

VII. Section-by-Section Analysis

This section-by-section analysis describes the changes to the regulatory text in numerical order.

§ 393.75 Tires

FMCSA adds a new paragraph (j) to clarify that FMCSA does not require tire markings under paragraphs (g) and (h).

VIII. Regulatory Analyses

A. Executive Order (E.O.) 12866 (Regulatory Planning and Review) and DOT Regulatory Policies and Procedures

FMCSA has considered the impact of this final rule under E.O. 12866 (58 FR 51735, Oct. 4, 1993), Regulatory Planning and Review, and DOT Order 2100.6B.¹ The Office of Information and Regulatory Affairs within the Office of Management and Budget (OMB) determined that this final rulemaking is not a significant regulatory action under section 3(f) of E.O. 12866, as supplemented by E.O. 13563, and does not require an assessment of potential costs and benefits under section 6(a)(3) of that order. Accordingly, OMB has not reviewed it under that E.O.

¹ DOT Order 2100.6B is available at https://www.transportation.gov/regulations/dot-order-21006b-policies-and-procedures-rulemakings.

FMCSA clarifies the requirements in section 393.75(g) and (h) by explicitly stating that those paragraphs do not require manufacturers to add markings to the sidewalls of tires. This revision avoids possible misunderstanding of the rules by affected entities, such as owners and operators of CMVs.

As NHTSA requires tires to be marked with a maximum load rating on the sidewall of the tire, FMCSA finds that members of the regulated public will not change their behavior due to this final rule. However, the increased clarity provided by this final rule will result in de minimis cost savings for regulated entities when navigating their obligations under more streamlined and easier to read FMCSR.

B. E.O. 14192 (Unleashing Prosperity Through Deregulation)

E.O. 14192 (90 FR 9065, Jan. 31, 2025), Unleashing Prosperity Through Deregulation, requires that for “each new [E.O. 14192 regulatory action] issued, at least ten prior regulations be identified for elimination.” ²

² Executive Office of the President. Executive Order 14192 of January 31, 2025, Unleashing Prosperity Through Deregulation, 90 FR 9065-9067, (Feb. 6, 2025).

Implementation guidance for E.O. 14192 issued by OMB (Memorandum M-25-20, March 26, 2025) defines two different types of E.O. 14192 actions: an E.O. 14192 deregulatory action, and an E.O. 14192 regulatory action.³

³ OMB. Guidance Implementing Section 3 of Executive Order 14192, Titled “Unleashing Prosperity Through Deregulation,” Memorandum M-25-20 (Mar. 26, 2025).

An E.O. 14192 deregulatory action is defined as “an action that has been finalized and has total costs less than zero.” This final rulemaking will have total costs less than zero and therefore is considered an E.O. 14192 deregulatory action.

C. Congressional Review Act

This rule is not a major rule as defined under the Congressional Review Act (5 U.S.C. 801-808).” ⁴

⁴ A major rule means any rule that OMB finds has resulted in or is likely to result in (a) an annual effect on the economy of $100 million or more; (b) a major increase in costs or prices for consumers, individual industries, geographic regions, Federal, State, or local government agencies; or (c) significant adverse effects on competition, employment, investment, productivity, innovation, or on the ability of United States-based enterprises to compete with foreign-based enterprises in domestic and export markets (5 U.S.C. 804(2)).

D. Regulatory Flexibility Act

The Regulatory Flexibility Act (5 U.S.C. 601 et seq.), as amended by the Small Business Regulatory Enforcement Fairness Act of 1996,⁵ requires Federal agencies to consider the effects of the regulatory action on small business and other small entities and to minimize any significant economic impact. The term small entities comprises small businesses and not-for-profit organizations that are independently owned and operated and are not dominant in their fields, and governmental jurisdictions with populations of less than 50,000 (5 U.S.C. 601(6)). Accordingly, DOT policy requires an analysis of the impact of all regulations on small entities, and mandates that agencies strive to lessen any adverse effects on these businesses.

⁵ Public Law 104-121, 110 Stat. 857 (Mar. 29, 1996).

No regulatory flexibility analysis is required, however, if the head of an Agency or an appropriate designee certifies that the rule will not have a significant economic impact on a substantial number of small entities. This final rule clarifies the requirements in section 393.75(g) and (h) by explicitly stating that those paragraphs do not require manufacturers to add markings to the sidewalls of tires. Regulated entities will not change their behavior in response to this final rule because NHTSA requires manufacturers to add markings to the sidewalls of tires. De minimis cost savings could be realized by entities through the clarification of the FMCSR.

Consequently, I certify that this action will not have a significant economic impact on a substantial number of small entities.

E. Assistance for Small Entities

In accordance with section 213(a) of the Small Business Regulatory Enforcement Fairness Act of 1996 (Pub. L. 104-121, 110 Stat. 857), FMCSA wants to assist small entities in understanding this final rule so they can better evaluate its effects on themselves and participate in the rulemaking initiative. If the final rule will affect your small business, organization, or governmental jurisdiction and you have questions concerning its provisions or options for compliance, please consult the person listed under FOR FURTHER INFORMATION CONTACT.

Small businesses may send comments on the actions of Federal employees who enforce or otherwise determine compliance with Federal regulations to the Small Business Administration's Small Business and Agriculture Regulatory Enforcement Ombudsman (Office of the National Ombudsman, see https://www.sba.gov/about-sba/oversight-advocacy/office-national-ombudsman) and the Regional Small Business Regulatory Fairness Boards. The Ombudsman evaluates these actions annually and rates each agency's responsiveness to small business. If you wish to comment on actions by employees of FMCSA, call 1-888-REG-FAIR (1-888-734-3247). DOT has a policy regarding the rights of small entities to regulatory enforcement fairness and an explicit policy against retaliation for exercising these rights.

F. Unfunded Mandates Reform Act of 1995

The Unfunded Mandates Reform Act of 1995 (2 U.S.C. 1531-1538) requires Federal agencies to assess the effects of their discretionary regulatory actions. The Act addresses actions that may result in the expenditure by a State, local, or Tribal government, in the aggregate, or by the private sector of $206 million (which is the value equivalent of $100 million in 1995, adjusted for inflation to 2024 levels) or more in any 1 year. Because this final rule will not result in such an expenditure, a written statement is not required.

G. Paperwork Reduction Act

This final rule contains no new information collection requirements under the Paperwork Reduction Act of 1995 (44 U.S.C. 3501-3520).

H. E.O. 13132 (Federalism)

A rule has implications for federalism under section 1(a) of E.O. 13132 if it has “substantial direct effects on the States, on the relationship between the national government and the States, or on the distribution of power and responsibilities among the various levels of government.”

FMCSA has determined that this rule will not have substantial direct costs on or for States, nor will it limit the policymaking discretion of States. Nothing in this document preempts any State law or regulation. Therefore, this rule does not have sufficient federalism implications to warrant the preparation of a Federalism Impact Statement.

I. Privacy

The Consolidated Appropriations Act, 2005,⁶ requires the Agency to assess the privacy impact of a regulation that will affect the privacy of individuals. This final rule will not require the collection of personally identifiable information.

⁶ Public Law 108-447, 118 Stat. 2809, 3268, note following 5 U.S.C. 552a (Dec. 4, 2014).

The Privacy Act (5 U.S.C. 552a) applies only to Federal agencies and any non-Federal agency that receives records contained in a system of records from a Federal agency for use in a matching program.

The E-Government Act of 2002,⁷ requires Federal agencies to conduct a Privacy Impact Assessment (PIA) for new or substantially changed technology that collects, maintains, or disseminates information in an identifiable form. No new or substantially changed technology will collect, maintain, or disseminate information as a result of this rule. Accordingly, FMCSA has not conducted a PIA.

⁷ Public Law 107-347, sec. 208, 116 Stat. 2899, 2921 (Dec. 17, 2002).

In addition, the Agency will complete a Privacy Threshold Assessment (PTA) to evaluate the risks and effects the final rule might have on collecting, storing, and sharing personally identifiable information. The PTA will be submitted to FMCSA's Privacy Officer for review and preliminary adjudication and to DOT's Privacy Officer for review and final adjudication.

J. E.O. 13175 (Indian Tribal Governments)

This rule does not have Tribal implications under E.O. 13175, Consultation and Coordination with Indian Tribal Governments, because it does not have a substantial direct effect on one or more Indian Tribes, on the relationship between the Federal Government and Indian Tribes, or on the distribution of power and responsibilities between the Federal Government and Indian Tribes.

K. National Environmental Policy Act of 1969

FMCSA analyzed this rule pursuant to the National Environmental Policy Act of 1969 (42 U.S.C. 4321 et seq.). The Agency believes this final rule will not have a reasonably foreseeable significant effect on the quality of the human environment. This action falls under a published categorical exclusion and is thus excluded from further analysis and documentation in an environmental assessment or environmental impact statement under DOT Order 5610.1D,⁸ Subpart B, subsection (e). Specifically, paragraph (e)(6)(bb), which covers regulations pertaining to vehicle operation safety standards, equipment approval, and/or equipment carriage requirements, applies to this rule.

⁸ Available at: https://www.transportation.gov/mission/dots-procedures-considering-environmental-impacts.

List of Subjects in 49 CFR Part 393

Highway safety, Motor carriers, Motor vehicle safety.

Accordingly, FMCSA amends 49 CFR part 393 as follows:

PART 393—PARTS AND ACCESSORIES NECESSARY FOR SAFE OPERATION

1. The authority citation for part 393 continues to read as follows:

Authority: 49 U.S.C. 31136, 31151, 31502; sec. 1041(b), Pub. L. 102-240, 105 Stat. 1914, 1993; secs. 5301 and 5524, Pub. L. 114-94, 129 Stat. 1312, 1543, 1560; and 49 CFR 1.87.

2. Amend section 393.75 by adding paragraph (j) to read as follows:

§ 393.75 Tires.

* * * * *

(j) The requirements in paragraphs (g) and (h) of this section shall not be construed to require manufacturers to add any markings to the sidewall of a tire.

Issued under authority delegated in 49 CFR 1.87.
Derek Barrs,
Administrator.

[FR Doc. 2026-03260 Filed 2-18-26; 8:45 am]

BILLING CODE 4910-EX-P